DEPARTMENT OF COMMERCE

International Trade Administration

[A-570-504]

Amended Notice of Final Results of the Antidumping Duty Administrative Review: Petroleum Wax Candles from the People's Republic of China

AGENCY: Import Administration, International Trade Administration, Department of Commerce.

SUMMARY: On March 15, 2004, the Department of Commerce (Department) published the final results of its administrative review of the antidumping duty order on petroleum wax candles from the People's Republic of China (PRC) for the period from August 1, 2001 to July 31, 2002 in the Federal Register. See Notice of Final Results and Rescission, In Part, of the Antidumping Duty Administrative Review: Petroleum Wax Candles from the People's Republic of China, 69 Fed. Reg. 12121 (March 15, 2004) (Final Results). We are amending our Final Results to correct ministerial errors alleged by the National Candle Association (the Petitioner) pursuant to section 751(h) of the Tariff Act of 1930, as amended (the Act).

EFFECTIVE DATE: April 19, 2004.

FOR FURTHER INFORMATION CONTACT: Sally Gannon at (202) 482-0162 or Mark Hoadley at (202) 482-3148, Office of AD/CVD Enforcement VII, Import Administration, International Trade Administration, U.S. Department of Commerce, 14th Street and Constitution Avenue, NW., Washington, DC 20230.

SUPPLEMENTARY INFORMATION:

Scope of the Antidumping Order

The products covered by this order are certain scented or unscented petroleum wax candles made from petroleum wax and having fiber or paper-cored wicks. They are sold in the following shapes: tapers, spirals, and straight-sided dinner candles; rounds, columns, pillars, votives; and various wax-filled containers. The products were classified under the Tariff Schedules of the United States (TSUS) item 755.25, Candles and Tapers. The products are currently classified under the Harmonized Tariff Schedule of the United States, Annotated for Statistical Reporting Purposes (2004) (HTSUS) item 3406.00.00. Although the HTSUS subheading is provided for convenience and customs purposes, our written description of the scope of this proceeding remains dispositive.

Amendment of Final Results

On March 15, 2004, the Department published the final results for its review of the antidumping duty order on petroleum wax candles from the PRC. See Final Results. On March 23, 2004, in accordance with section 751(h) of the Act and 19 C.F.R. 351.224(c)(2), the Petitioner timely filed an allegation that there were ministerial errors in the Final Results. The Petitioner contends that in the Final Results, the Department erred in its calculations of surrogate values from the Indian import data used by the Department as the basis for valuation of certain of the factors of production. Dongguan Fay Candle Co., Ltd. (the Respondent) did not allege any ministerial errors, nor did they rebut the Petitioner's allegations. The Petitioner alleges two types of ministerial errors.

For the following factors of production: Masonite board, Styrofoam, wick, metal plate, metal stand, metal star, and wick stand, the Petitioner alleges that the Department incorrectly multiplied the value of Indian imports by 100 million rupees (100,000,000 rupees), instead of the correct figure of one billion rupees (1,000,000,000 rupees), prior to division by the quantity of imports in kilograms. The Petitioner notes that the Indian import data is provided in billions of rupees, and, therefore, must be multiplied by 1,000,000,000 rupees in the Department's formula to calculate the correct surrogate value. The Petitioner states that the correct multiplier was used in other comparable formulas for other factors of production calculations disclosed by the Department in this case. The Petitioner suggests the following formula in order to correct the surrogate value for these inputs:

(sum of total value * 1,000,000,000 rupees) / sum of total quantity

For banding strap, the Petitioner alleges that the Department used average unit values in rupees per kilogram, instead of the Indian price data in the numerator of the formula used to calculate the surrogate value. As a result, according to the Petitioner, when the average unit values were summed, the calculated total was not the total value of imports. The Petitioner suggests that the Department use the Indian import data to calculate the surrogate value for banding strap in order to correct this ministerial error.

The Act, as well as the Department's regulations, define a ministerial error as one involving “addition, subtraction, or other arithmetic function, clerical errors resulting from inaccurate copying, duplication, or the like, and any other type of unintentional error which the Secretary considers ministerial.” See section 751(h) of the Act and 19 CFR 351.224(f).

After reviewing Petitioner's allegations, we have determined that the alleged errors are ministerial errors pursuant to section 751(h) of the Act and 19 CFR 351.224(f). Therefore, we are amending the Final Results to correct the above-described ministerial errors. First, the Petitioner is correct that to calculate the total Indian import values, the value in the statistics must be multiplied by one billion rupees. Therefore, for Masonite board, Styrofoam, wick, metal plate, metal stand, metal star, and wick stand, we are amending the formula used to calculate the surrogate values to reflect that the data are provided in billions of Indian Rupees. As stated above, the correct formula used for these amended final results is: (sum of total value * 1,000,000,000) / sum of total quantity. See Memorandum to the File through Sally Gannon from Sebastian Wright Regarding Correction of Ministerial Errors in the Determination of Surrogate Values for Use in the Amended Final Results of the Administrative Review of Petroleum Wax Candles from the People's Republic of China, dated April 2, 2004 (Ministerial Error Memo). (This memorandum is on the record of this review and is on file in room B-099 of the Central Records Unit of the main Department of Commerce building.) With regard to banding strap, we agree that the Department inadvertently used average unit values rather than total import values to calculate the surrogate value. Therefore, we used the Indian import total value data for banding strap as provided by the World Trade Atlas for the period of review. See Ministerial Error Memo.

Amended Final Results of Review

In the Final Results, the Department determined that the Respondent, Shandong Jiaye General Merchandise Co., Ltd. (Shandong Jiaye) , and Shanghai Charming Wax Co., Ltd. (Shanghai Charming) each remained eligible for a separate, company-specific rate. We also determined to apply total adverse facts available (AFA) to the PRC entity. See Final Results. As AFA, and as the PRC-wide rate, the Department assigned Fay Candle's calculated rate from the instant review, which was the highest rate determined in the current or any previous segment of this proceeding. See Final Results. As a result of correcting the ministerial errors described supra, we are amending the rates for each company that we determined was eligible for a separate rate, and for the PRC entity rate, as stated below. We are also amending the AFA rate, which we applied to the 97 companies identified in Attachment II of the Final Results, to reflect the ministerial corrections.

We determine that the following percentage margins exist for the period August 1, 2001 through July 31, 2002.

Manufacturer/Exporter | Margin
Dongguan Fay Candle Co., Ltd. | 108.30 percent
Shanghai Charming Wax Co., Ltd. | 108.30 percent
Shandong Jiaye General Merchandise Co., Ltd. | 108.30 percent
PRC-Wide Rate | 108.30 percent

Assessment and Cash Deposit Requirements

The following deposit requirements will be effective upon publication of these amended final results for this administrative review for all shipments of petroleum wax candles from the PRC entered, or withdrawn from warehouse, for consumption on or after the date of publication, as provided by section 751(a)(2)(C) of the Act: (1) the cash deposit rates for Fay Candle, Shanghai Charming, and Shandong Jiaye will be the rates listed above in the “Amended Final Results of Review” section; (2) for previously-reviewed PRC and non-PRC exporters with separate rates, the cash deposit rate will be the company-specific rate established for the most recent period; (3) for all other PRC exporters, the cash deposit rate will be the new PRC-wide rate, as listed above in the “Amended Final Results of Review” section; and, (4) for all other non-PRC exporters, the cash deposit rate will be the rate applicable to the PRC exporter that supplied that exporter. These deposit requirements shall remain in effect until publication of the final results of the next administrative review.

Accordingly, the Department will determine, and U.S. Customs and Border Production (CBP) shall assess, antidumping duties on all appropriate entries. The Department will issue appropriate assessment instructions directly to CBP within 15 days of publication of these amended final results of review.

We are issuing and publishing this determination and notice in accordance with sections 751(a)(1), 751(h), and 777(i)(1) of the Act and 19 C.F.R. 351.224(f).

Dated: April 12, 2004.
Jeffrey A. May,
Acting Assistant Secretary for Import Administration.

[FR Doc. 04-8800 Filed 4-16-04; 8:45 am]

BILLING CODE 3510-DS-S